EXPORT-IMPORT BANK OF THE US

[Public Notice 73]

Agency Information Collection Activities: Submission for OMB Review; Comment Request

AGENCY: Export-Import Bank of the U.S.

ACTION: Notice and request for comments.

SUMMARY: The Export-Import Bank, as a part of its continuing effort to reduce paperwork and respondent burden, invites the general public and other Federal agencies to comment on the proposed information collection, as required by the Paperwork Reduction Act of 1995.

DATES: Written comments should be received on or before April 11, 2005, to be assured of consideration.

ADDRESSES: Direct all comments to David Rostker, Office of Management and Budget, Office of Information and Regulatory Affairs, NEOB Room 10202, Washington, DC 20503, (202) 395-3897.

SUPPLEMENTARY INFORMATION: Titles and Form Numbers: Short-Term Multi-Buyer Export Credit Insurance Policy Application, EIB 92-50.

OMB Number: 3048-0009.

Type of Review: Revision of 1 of 7 forms in a currently approved collection. This review affects only the form noted above.

Need and Use: The information requested enables the applicant to provide Ex-Im Bank with the information necessary to obtain legislatively required assurance of repayment and fulfills other statutory requirements.

Affected Public: The form affects entities involved in the export of U.S. goods and services, including exporters, insurance brokers, and non-profit or state and local governments acting as facilitators.

Estimated Annual Responses: 500.

Estimated Time Per Respondent: ½ hour.

Estimated Annual Burden: 250.

Frequency of Reporting or Use: Applications submitted one time, renewals annually.

Dated: March 7, 2005.
Solomon Bush,
Agency Clearance Officer.

BILLING CODE 6690-01-M

[FR Doc. 05-4765 Filed 3-10-05; 8:45 am]

BILLING CODE 6690-01-C